DEPARTMENT OF DEFENSE

Department of the Army, Corps of Engineers

33 CFR Part 223

[COE-2020-0010]

RIN 0710-AA87

Boards, Commissions, and Committees

AGENCY: U.S. Army Corps of Engineers, Department of Defense.

ACTION: Final rule.

SUMMARY: This final rule removes the U.S. Army Corps of Engineers' part titled Boards, Commissions, and Committees. This part is redundant of or otherwise covers internal agency operations that have no public compliance component or adverse public impact. Therefore, this part can be removed from the Code of Federal Regulations (CFR).

DATES: This rule is effective on January 11, 2021.

ADDRESSES: Department of the Army, U.S. Army Corps of Engineers, ATTN: CECW-P (Mr. Paul Clouse), 441 G Street NW, Washington, DC 20314-1000.

FOR FURTHER INFORMATION CONTACT: Mr. Paul Clouse at (202) 761-4709 or by email at Paul.D.Clouse@usace.army.mil.

SUPPLEMENTARY INFORMATION: This final rule removes from the CFR 33 CFR part 223, Boards, Commissions, and Committees. The rule was initially published in the Federal Register on November 9, 1978 (43 FR 52236). This regulation established and prescribed the objectives, composition, responsibilities and authority of the Mississippi River Water Control Management Board which is comprised of only Corps members and only oversees Corps-related functions in the Mississippi River Basin. The objectives of the Board are to provide oversight and guidance during the development of basin-wide management plans for Mississippi River Basin projects for which the Corps has operation/regulation responsibilities, and to serve as a forum for resolution of water control problems among Corps Divisions within the Mississippi River Basin when agreement is otherwise unobtainable. It was published, at that time, in the Federal Register to aid public accessibility. The solicitation of public comment for this removal is unnecessary because the rule is redundant of and covers internal agency operations that have no public compliance component or adverse public impact. For current public accessibility purposes, the current guidance governing the Greater Mississippi River Basin Water Management Board may be found in Engineer Regulation 15-2-13, “Greater Mississippi River Basin Water Management Board” (available at https://www.publications.usace.army.mil/Portals/76/Publications/EngineerRegulations/ER_15-2-13.pdf?ver=2014-01-30-134510-207). The agency policy is only applicable to Board members and to all field operating activities concerned with water management within the Greater Mississippi River Basin and establishes and prescribes the objectives, composition, responsibilities and authority of the Corps' Greater Mississippi River Basin Water Management Board.

This rule removal is being conducted to reduce confusion for the public as well as for the Corps regarding the current policy which governs the Corps' Greater Mississippi River Basin Water Management Board. Because the regulation does not place a burden on the public, its removal does not provide a reduction in public burden or costs.

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 33 CFR Part 223

Mississippi River, Organization and functions (Government agencies), Water resources.

PART 223—[REMOVED]

Accordingly, for the reasons stated in the preamble and under the authority of 5 U.S.C. 301, the Corps removes 33 CFR part 223.

R.D. James,
Assistant Secretary of the Army (Civil Works).

[FR Doc. 2020-27909 Filed 1-8-21; 8:45 am]

BILLING CODE 3720-58-P